DEPARTMENT OF THE TREASURY

Internal Revenue Service

26 CFR Part 1

[REG-103823-99]

RIN 1545-AX12

Guidance on Cost Recovery Under the Income Forecast Method; Hearing Cancellation

AGENCY: Internal Revenue Service (IRS), Treasury.

ACTION: Cancellation of notice of public hearing on proposed rulemaking.

SUMMARY: This document cancels the public hearing on proposed regulations relating to cost recovery under the income forecast method.

DATES: The public hearing originally scheduled for Wednesday, September 4, 2002 at 10 a.m., is cancelled.

FOR FURTHER INFORMATION CONTACT: Guy R. Traynor of the Regulations Unit, Associate Chief Counsel (Income Tax & Accounting), (202) 622-7180 (not a toll-free number).

SUPPLEMENTARY INFORMATION: A notice of proposed rulemaking and notice of public hearing that appeared in the Federal Register on Friday, May 31, 2002, announced that a public hearing was scheduled for September 4, 2002 at 10 a.m., in the auditorium of the Internal Revenue New Carrollton Building, at 5000 Ellin Road, Lanham, MD 20706. The subject of the public hearing is proposed regulations under section 167 of the Internal Revenue Code. The deadline for submitting outlines and requests to speak at the hearing for these proposed regulations expired on August 13, 2002.

The notice of proposed rulemaking and notice of public hearing, instructed those interested in testifying at the public hearing to submit a request to speak and an outline of the topics to be addressed. As of August 19, 2002, no one has requested to speak. Therefore, the public hearing scheduled for September 4, 2002, is cancelled.

Cynthia E. Grigsby,
Chief, Regulations Unit, Associate Chief Counsel (Income Tax & Accounting).

[FR Doc. 02-21464 Filed 8-21-02; 8:45 am]

BILLING CODE 4830-01-P